DEPARTMENT OF HOMELAND SECURITY

Coast Guard

[USCG-2005-21004]

Collection of Information Under Review by Office of Management and Budget (OMB): OMB Control Numbers: 1625-0060, 1625-0081, and 1625-0083

AGENCY: Coast Guard, DHS.

ACTION: Request for comments.

SUMMARY: In compliance with the Paperwork Reduction Act of 1995, the Coast Guard intends to seek the approval of OMB for the renewal of three Information Collection Requests (ICRs). The ICRs comprise (1) 1625-0060, Vapor Control Systems for Facilities and Tank Vessels, (2) 1625-0081, Alternate Compliance Program, and (3) 1625-0083, Operational Measures for Existing Tank Vessels Without Double Hulls. Before submitting the ICRs to OMB, the Coast Guard is inviting comments on them as described below.

DATES: Comments must reach the Coast Guard on or before June 27, 2005.

ADDRESSES: To make sure that your comments and related material do not enter the docket [USCG-2005-21004] more than once, please submit them by only one of the following means:

(1) By mail to the Docket Management Facility, U.S. Department of Transportation (DOT), room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICRs are available through this docket on the Internet at http://dms.dot.gov, and also from Commandant (CG-611), U.S. Coast Guard Headquarters, room 6106 (Attn: Ms Barbara Davis), 2100 Second Street SW., Washington, DC 20593-0001. The telephone number is 202-267-2326.

FOR FURTHER INFORMATION CONTACT: Ms. Barbara Davis, Office of Information Management, telephone 202-267-2326, or fax 202-267-4814 for questions on these documents; or telephone Ms. Andrea M. Jenkins, Program Manager, Docket Operations, 202-366-0271, for questions on the docket.

SUPPLEMENTARY INFORMATION: Public participation and request for comments. We encourage you to respond to this request for comment by submitting comments and related materials. We will post all comments received, without change, to http://dms.dot.gov, and they will include any personal information you have provided. We have an agreement with DOT to use the Docket Management Facility. Please see the paragraph on DOT's “Privacy Act Policy”' below.

Submitting comments: If you submit a comment, please include your name and address, identify the docket number for this request for comment [USCG-2005-21004], indicate the specific section of this document to which each comment applies, and give the reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Requests

1. Title: Vapor Control Systems for Facilities and Tank Vessels.

OMB Control Number: 1625-0060.

Summary: The information is needed to ensure compliance with U.S. regulations for the design of facility and tank vessel vapor control systems (VCS). The information is also needed to determine the qualifications of a certifying entity.

Need: Title 33 United States Code (U.S.C.) 1225 and 46 U.S.C. 3703 authorize the Coast Guard to establish regulations to promote the safety of life and property of facilities and vessels. Title 33 Code of Federal Regulations (CFR) 154.800 establishes the applicability of the Coast Guard regulations for VCS and certifying entities.

Respondents: Owners and operators of facilities and tank vessels, and certifying entities.

Frequency: On occasion.

Burden Estimate: The estimated burden has been increased from 1,073 hours to 1,145 hours a year.

2. Title: Alternate Compliance Program.

OMB Control Number: 1625-0081.

Summary: This information is used by the Coast Guard to assess vessels participating in the voluntary Alternate Compliance Program (ACP) before issuance of a Certificate of Inspection.

Need: Title 46 United States Code (USC) 3306, 3316, and 3703 authorize the Coast Guard to establish vessel inspection regulations and inspection alternatives. Title 46 Code of Federal Regulations (CFR) part 8 prescribes the Coast Guard regulations for recognizing classification societies and enrollment of U.S.-flag vessels in ACP.

Respondents: Recognized classification societies.

Frequency: On occasion.

Burden Estimate: The estimated burden has been increased from 150 hours to 164 hours a year.

3. Title: Operational Measures for Existing Tank Vessels Without Double Hulls.

OMB Control Number: 1625-0083.

Summary: The information is needed to ensure compliance with U.S. regulations regarding operational measures for certain tank vessels while operating in the U.S. waters.

Need: Title 46 United States Code (U.S.C.) 3703a authorizes the Coast Guard to establish regulations to promote the safety of life and property of facilities and vessels. Title 33 Code of Federal Regulations (CFR) Part 157, Subparts G, H and I, prescribe the Coast Guard regulations for operational measures.

Frequency: On occasion.

Burden Estimate: The estimated burden has decreased from 18,006 hours to 6,807 hours a year.

Dated: April 20, 2005.
Dr. Nathaniel Heiner,
Acting, Assistant Commandant for Command, Control, Communications, Computers and Information Technology.

[FR Doc. 05-8350 Filed 4-26-05; 8:45 am]

BILLING CODE 4910-15-P